DEPARTMENT OF COMMERCE

International Trade Administration

[A-423-808, A-122-830, A-475-822, A-580-831, A-791-805, A-583-830]

Notice of Amended Antidumping Duty Orders; Certain Stainless Steel Plate in Coils From Belgium, Canada, Italy, the Republic of Korea, South Africa, and Taiwan

AGENCY: Import Administration, International Trade Administration, Department of Commerce.

ACTION: Notice of amended antidumping duty orders.

EFFECTIVE DATE: March 11, 2003.

FOR FURTHER INFORMATION CONTACT: Robert Bolling at (202) 482-3434 or Robert James at (202) 482-0649, Antidumping and Countervailing Duty Enforcement Group III, Import Administration, International Trade Administration, U.S. Department of Commerce, 14th Street and Constitution Avenue, NW., Washington, DC 20230.

Background

On May 21, 1999, the Department published in the Federal Register the antidumping duty orders on certain stainless steel plate in coils (stainless steel plate) from Belgium, Canada, Italy, the Republic of Korea, South Africa, and Taiwan. See Antidumping Duty Orders; Certain Stainless Steel Plate in Coils from Belgium, Canada, Italy, the Republic of Korea, South Africa, and Taiwan, 64 FR 27756 (May 21, 1999) (Antidumping Duty Orders).

Respondents appealed the affirmative material injury findings of the International Trade Commission (the Commission) with respect to hot-rolled stainless steel plate. The Court of International Trade (the Court) affirmed those findings in Acciai Speciali Terni v. United States, 118 F. Supp. 2d 1298 (CIT 2000).

The Commission's negative material injury determination with respect to cold-rolled stainless steel plate was the subject of a separate appeal. The Court upheld the Commission's determination in Allegheny Ludlum Corp. v. United States, 116 F. Supp 2d 1276 (CIT 2000). However, on a subsequent appeal to the Court of Appeals for the Federal Circuit, the Federal Circuit vacated the Court's decision and remanded for proceedings not inconsistent with its decision.

On remand the Commission reversed its original negative injury findings with respect to cold-rolled stainless steel plate and “determined that an industry in the United States is materially injured by reason of imports of certain stainless steel plate from Belgium, Canada, Italy, Korea, South Africa and Taiwan * * *” Certain Stainless Steel Plate From Belgium, Canada, Italy, Korea, South Africa, and Taiwan; Notice of Final Court Decision Affirming Remand Determinations, 68 FR 8925 (February 26, 2003). On December 12, 2002, the Court affirmed the remand redetermination as “being in accordance with the Court's remand order.” Id. at 8926. The result of this decision is to include both hot-rolled and cold-rolled stainless steel plate in coils within the scope of these orders.

As there was no timely appeal of the Court's order to the Federal Circuit, the judicial proceedings have ended. Therefore, we are amending the scope of the antidumping duty orders to remove the original language which excluded cold-rolled stainless steel plate in coils, in accordance with the Court's final decision. See Antidumping Duty Orders. This amendment did not require any changes in the HTS subheadings listed below in the “Scope of the Orders” section.

Scope of the Orders

The product covered by these orders is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars.

The merchandise subject to this review is currently classifiable in the Harmonized Tariff Schedule of the United States (HTS) at subheadings: 7219.11.00.30, 7219.11.00.60, 7219.12.00.05, 7219.12.00.20, 7219.12.00.25, 7219.12.00.50, 7219.12.00.55, 7219.12.00.65, 7219.12.00.70, 7219.12.00.80, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and Customs purposes, the written description of the merchandise subject to these orders is dispositive.

Amended Antidumping Duty Orders and Suspension of Liquidation

In accordance with section 736(a)(1) of the Tariff Act, the Department will direct Customs officers to assess, upon further advice by the Department, antidumping duties equal to the amount by which the normal value of the merchandise exceeds the export price (or constructed export price) of the merchandise for all relevant entries of stainless steel plate in coils, as described in the “Scope of the Orders” section above, from Belgium, Canada, Italy, Korea, South Africa and Taiwan. These antidumping duties will be assessed on all unliquidated entries of stainless steel plate in coils, other than cold-rolled stainless steel plate in coils, from Belgium, Canada, Italy, Korea, South Africa and Taiwan entered, or withdrawn from warehouse, for consumption on or after November 4, 1998, the date on which the Department published its notices of preliminary determination in the Federal Register (63 FR 59524 through 59544).

Furthermore, effective the date of publication of this notice, we will instruct the Customs service to require cash deposits on all entries of cold-rolled stainless steel plate in coils, as well as other stainless steel plate in coils subject to these orders, in accordance with the Court's December 12, 2002 opinion in Allegheny Ludlum v. United States.

For unreviewed producers, and for “All Others,” the applicable weighted-average margins are those established in the original final determinations. For those producers that have been reviewed the applicable weighted-average margins are those established in the investigation or the most recently completed final results of an antidumping administrative review, as noted below:

Producer/manufacturer/exporter | Cash deposit rate
Belgium:
ALZ, N.V | 3.84% (67 FR 64352)
All Others | 9.86%
Canada:
Atlas Stainless Steel (Sammi Atlas) | 15.35%
All Others | 11.10%
Italy:
ThyssenKrupp Acciai Speciali Terni SpA (TKAST) | 0.00% (67 FR 63618)
All Others | 39.69%
Republic of Korea:
Pohang Iron & Steel Co., Ltd | 1.19% (66 FR 64017)
All Others | 6.08%
South Africa:
Columbus Stainless | 37.77% ¹
All Others | 77%1 ¹
Taiwan:
Yieh United Steel Corporation (YUSCO) | 8.02% (67 FR 40914)
YUSCO/ Ta Chen | 10.20%
All Others | 7.39%
¹ In accordance with section 772(c)(1)(C) of the Tariff Act the cash deposit rate for South Africa has been reduced by 3.86 percent to account for export subsidies found in the concurrent countervailing duty investigation (See Final Affirmative Countervailing Duty Determination: Stainless Steel Plate in Coils From South Africa, 63 FR 15553, March 31, 1999), Antidumping Duty Orders, and Memorandum to Bernard Carreau, “Ministerial Error Allegations * * * in the Final Determination of the Countervailing Duty Investigation of Certain Stainless Steel Wire Rod [sic] from South Africa,” April 30, 1999.

Customs officers must require, at the same time as importers would normally deposit estimated duties on this merchandise, cash deposits equal to the rates presently in effect. This notice constitutes the amended antidumping duty orders with respect to certain stainless steel plate in coils from Belgium, Canada, Italy, Korea, South Africa and Taiwan. Interested parties may contact the Department's Central Records Unit, room B-099 of the main Commerce building, for copies of an updated list of antidumping duty orders currently in effect.

These amended orders are published in accordance with section 736(a) of the Tariff Act of 1930, as amended.

Dated: March 5, 2003.
Joseph A. Spetrini,
Acting Assistant Secretary for Import Administration.

[FR Doc. 03-5891 Filed 3-10-03; 8:45 am]

BILLING CODE 3510-DS-P